DEPARTMENT OF TRANSPORTATION

Federal Aviation Administration

14 CFR Part 39

[Docket No. FAA-2016-5596; Directorate Identifier 2015-NM-121-AD]

RIN 2120-AA64

Airworthiness Directives; Airbus Airplanes

AGENCY: Federal Aviation Administration (FAA), DOT.

ACTION: Notice of proposed rulemaking (NPRM).

SUMMARY: We propose to supersede Airworthiness Directive (AD) 2014-12-06, for certain Airbus Model A300 B4-600, B4-600R, and F4-600R series airplanes, and Model A300 C4-605R Variant F airplanes (collectively called Model A300-600 series airplanes); and Airbus Model A310 series airplanes. AD 2014-12-06 currently requires inspections of the external area of the aft cargo door sill beam for cracking, and repair if necessary. Since we issued AD 2014-12-06, we have determined it is necessary to require that high frequency eddy current (HFEC) inspections be performed repetitively. This proposed AD would mandate the previously optional terminating HFEC inspection, and require that it be done repetitively. We are proposing this AD to detect and correct fatigue cracking of the cargo door sill beam, lock fitting, and torsion box plate. Failure of one or more of these components could result in the loss of the door locking function and, subsequently, complete loss of the cargo door in flight with the risk of rapid decompression.

DATES: We must receive comments on this proposed AD by June 13, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-5596; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Comments Invited

We invite you to send any written relevant data, views, or arguments about this proposed AD. Send your comments to an address listed under the ADDRESSES section. Include “Docket No. FAA-2016-5596; Directorate Identifier 2015-NM-121-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 4, 2014, we issued AD 2014-12-06, Amendment 39-17867 (79 FR 34403, June 17, 2014) (“AD 2014-12-06”). AD 2014-12-06 requires actions intended to address an unsafe condition on certain Airbus Model A300 B4-600, B4-600R, and F4-600R series airplanes, and Model A300 C4-605R Variant F airplanes (collectively called Model A300-600 series airplanes); and Airbus Model A310 series airplanes.

Since we issued AD 2014-12-06, we have determined it is necessary to require that the HFEC inspections be performed repetitively.

The European Aviation Safety Agency (EASA), which is the Technical Agent for the Member States of the European Union, has issued EASA Airworthiness Directive 2015-0150, dated July 23, 2015 (referred to after this as the Mandatory Continuing Airworthiness Information, or “the MCAI”), to correct an unsafe condition for certain Airbus Model A300 B4-600, B4-600R, and F4-600R series airplanes, and Model A300 C4-605R Variant F airplanes (collectively called Model A300-600 series airplanes); and Airbus Model A310 series airplanes. The MCAI states:

During accomplishment of Maintenance Review Board Report (MRBR) task 531625-01-1 on an A300-600 aeroplane having accumulated more than 25,000 flight cycles (FC) since aeroplane first flight, multiple fatigue cracks were found on the following parts:

—Aft cargo door sill beam Part Number(P/N) A53973085210

—Lock fitting P/N A53978239002

—Torsion box plate P/N A53973318206.

Prompted by these findings, a stress analysis was performed during which it was discovered that there is no dedicated scheduled maintenance task to inspect the affected area for fatigue damage.

This condition, if not detected and corrected, could lead to failure of multiple lock fittings, possibly resulting in loss of the cargo door in flight and consequent explosive decompression of the aeroplane.

To address this unsafe condition, Airbus issued Alert Operators Transmission (AOT) A53W005-14 providing instructions for inspection of the affected area.

Consequently, EASA issued Emergency AD 2014-0097-E [FAA AD 2014-12-06, Amendment 39-17867 (79 FR 34403, June 17, 2014)] to require repetitive ultrasonic (US) inspections or detailed inspections (DET) of the aft cargo door sill beam external area, and/or a one-time High Frequency Eddy Current (HFEC) inspection of the aft cargo door sill beam internal structure and, depending on findings, accomplishment of corrective action(s).

Since that [EASA] AD was issued, the results of further analysis have indicated that repetitive HFEC inspections need to be introduced.

For the reasons described above, this [EASA] AD retains the requirements of EASA AD 2014-0097-E, which is superseded, and requires repetitive HFEC inspections of the concerned areas. The first HFEC inspection terminates the repetitive US/DET inspections.

You may examine the MCAI in the AD docket on the Internet at http://www.regulations.gov by searching for and locating Docket No. FAA-2016-5596.

Related Service Information Under 1 CFR Part 51

Airbus has issued Service Bulletin A300-53-6179, dated December 12, 2014; and Service Bulletin A310-53-2139, dated December 12, 2014. The service information describes procedures for repetitive HFEC inspections of the cargo door sill beam, lock fitting, and torsion box plate.

Airbus has also issued AOT A53W005-14, Revision 01, dated April 29, 2014. The service information describes procedures for doing an ultrasonic inspection or detailed inspection of the aft cargo door sill beam external area for cracking.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 75 airplanes of U.S. registry.

The actions required by AD 2014-12-06, and retained in this proposed AD, take about 12 work-hours per product, at an average labor rate of $85 per work-hour. Based on these figures, the estimated cost of the actions that are required by AD 2014-12-06 and retained in this AD is $1,020 per product.

We also estimate that it would take about 1 work-hour per product to comply with the reporting requirements of this proposed AD. The average labor rate is $85 per work-hour. Based on these figures, we estimate the cost of this proposed AD on U.S. operators to be $6,374, or $85 per product.

We have received no definitive data that would enable us to provide cost estimates for the on-condition actions specified in this proposed AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing AD 2014-12-06, Amendment 39-17867 (79 FR 34403, June 17, 2014), and adding the following new AD:

Airbus: Docket No. FAA-2016-5596; Directorate Identifier 2015-NM-121-AD.

(a) Comments Due Date

We must receive comments by June 13, 2016.

(b) Affected ADs

This AD replaces AD 2014-12-06, Amendment 39-17867 (79 FR 34403, June 17, 2014) (“AD 2014-12-06”).

(c) Applicability

This AD applies to the airplanes identified in paragraphs (c)(1), (c)(2), (c)(3), (c)(4), and (c)(5) of this AD, certificated in any category, all manufacturer serial numbers on which Airbus Modification 05438 has been embodied in production, except those on which Airbus Modification 12046 has been embodied in production.

(1) Airbus Model A300 B4-601, B4-603, B4-620, and B4-622 airplanes.

(2) Airbus Model A300 B4-605R and B4-622R airplanes.

(3) Airbus Model A300 F4-605R and F4-622R airplanes.

(4) Airbus Model A300 C4-605R Variant F airplanes.

(5) Airbus Model A310-203, -204, -221, -222, -304, -322, -324, and -325 airplanes.

(d) Subject

Air Transport Association (ATA) of America Code 53, Fuselage.

(e) Reason

This AD was prompted by reports of fatigue cracks on the cargo door sill beam, lock fitting, and torsion box plate. We are issuing this AD to detect and correct fatigue cracking of the cargo door sill beam, lock fitting, and torsion box plate, which could result in the loss of the door locking function and subsequently, complete loss of the cargo door in flight with the risk of rapid decompression.

(f) Compliance

Comply with this AD within the compliance times specified, unless already done.

(g) Retained Inspection With Revised Service Information

This paragraph restates the requirements of paragraph (g)(1) of AD 2014-12-06 with revised service information: Within the compliance time identified in paragraph (g)(1), (g)(2), or (g)(3) of this AD, as applicable, do an ultrasonic inspection or detailed inspection of the aft cargo door sill beam external area for cracking, in accordance with Airbus Alert Operators Transmission (AOT) A53W005-14, dated April 22, 2014; or Airbus AOT A53W005-14, Revision 01, dated April 29, 2014. Repeat the inspection thereafter at intervals not to exceed 275 flight cycles. As of the effective date of this AD, only Airbus AOT A53W005-14, Revision 01, dated April 29, 2014, may be used to comply with the requirements of this paragraph.

(1) For airplanes that have accumulated 30,000 flight cycles or more since the airplane's first flight as of July 2, 2014 (the effective date of AD 2014-12-06): Within 50 flight cycles after July 2, 2014.

(2) For airplanes that have accumulated 18,000 flight cycles or more, but fewer than 30,000 flight cycles since the airplane's first flight as of July 2, 2014 (the effective date of AD 2014-12-06): Within 275 flight cycles after July 2, 2014.

(3) For airplanes that have accumulated fewer than 18,000 flight cycles since the airplane's first flight as of July 2, 2014 (the effective date of AD 2014-12-06): Before exceeding 18,275 flight cycles since the airplane's first flight.

(h) Retained Optional Terminating Action, With Revised Service Information

This paragraph restates the provisions of paragraph (h) of AD 2014-12-06, with revised service information. Accomplishment of high frequency eddy current (HFEC) inspection for cracking, in accordance with Airbus AOT A53W005-14, dated April 22, 2014; or Airbus AOT A53W005-14, Revision 01, dated April 29, 2014, terminates the repetitive inspections required by paragraph (g) of this AD for that airplane. If any cracking is found during the HFEC inspection, before further flight, repair using a method approved by the Manager, International Branch, ANM-116, Transport Airplane Directorate, FAA; or the European Aviation Safety Agency (EASA); or Airbus's EASA Design Organization Approval (DOA).

(i) Retained Reporting Requirement, With Revised Service Information

This paragraph restates the provisions of paragraph (i) of AD 2014-12-06, with revised service information. Submit a report of the findings (both positive and negative) of the inspection required by paragraph (g) of this AD to Airbus, as specified in paragraph 7.,”Reporting,” of Airbus AOT A53W005-14, dated April 22, 2014; or Airbus AOT A53W005-14, Revision 01, dated April 29, 2014, at the applicable time specified in paragraph (i)(1) or (i)(2) of this AD. The report must include inspection results, including no findings.

(1) If the inspection was done on or after the effective date of this AD: Submit the report within 30 days after the inspection.

(2) If the inspection was done before the effective date of this AD: Submit the report within 30 days after the effective date of this AD.

(j) Definition of Airplane Groups

Paragraphs (k)(1), (k)(2), and (k)(3) of this AD refer to airplane groups, as identified in paragraphs (j)(1), (j)(2), and (j)(3) of this AD.

(1) Airplanes on which a HFEC inspection was accomplished as specified in Airbus AOT A53W005-14.

(2) Airplanes on which no HFEC inspection was accomplished as specified in Airbus AOT A53W005-14, and that have accumulated more than 18,000 total flight cycles as of the effective date of this AD.

(3) Airplanes on which no HFEC inspection accomplished as specified in Airbus AOT A53W005-14, that have accumulated 18,000 total flight cycles or fewer as of the effective date of this AD.

(k) New Repetitive HFEC Inspections and Repair

At the applicable time specified in paragraph (k)(1), (k)(2), or (k)(3) of this AD, do an HFEC inspection for fatigue cracking of the cargo door sill beam, lock fitting, and torsion box plate, in accordance with Airbus Service Bulletin A300-53-6179, dated December 12, 2014; or Airbus Service Bulletin A310-53-2139, dated December 12, 2014, as applicable. Repeat the HFEC inspection thereafter at intervals not to exceed 4,600 flight cycles.

(1) For airplanes identified in paragraph (j)(1) of this AD: Inspect within 4,600 flight cycles after the most recent HFEC inspection specified in Airbus AOT A53W005-14.

(2) For airplanes identified in paragraph (j)(2) of this AD: Inspect within 2,000 flight cycles after the effective date of this AD.

(3) For airplanes identified in paragraph (j)(3) of this AD: Inspect before exceeding 13,000 total flight cycles since the airplane's first flight, or within 2,000 flight cycles after the effective date of this AD, whichever occurs later.

(l) Corrective Action

If any crack is found during any inspection required by paragraph (g) or (k) of this AD: Before further flight, repair using a method approved by the Manager, International Branch, ANM-116, Transport Airplane Directorate, FAA; or the EASA; or Airbus's EASA DOA.

(m) Terminating Action for HFEC Inspections

For any airplane identified in paragraphs (j)(2) and (j)(3) of this AD, accomplishment of the initial inspection required by paragraph (k) of this AD terminates the repetitive inspections required by paragraph (g) of this AD.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(4) Required for Compliance (RC): Except as required by paragraph (l) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(o) Related Information

(1) Refer to Mandatory Continuing Airworthiness Information (MCAI) European Aviation Safety Agency (EASA) Airworthiness Directive 2015-0150, dated July 23, 2015, for related information. This MCAI may be found in the AD docket on the Internet at http://www.regulations.gov by searching for and locating Docket No. FAA-2016-5596.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on April 15, 2016.
Victor Wicklund,
Acting Manager, Transport Airplane Directorate, Aircraft Certification Service.

[FR Doc. 2016-09641 Filed 4-26-16; 8:45 am]

BILLING CODE 4910-13-P